DEPARTMENT OF ENERGY

Federal Energy Regulatory Commission

Combined Notice of Filings #1

Take notice that the Commission received the following electric rate filings:

Docket Numbers: ER24-1156-003.

Applicants: Florida Power & Light Company.

Description: Compliance filing: Errata Amendment to Order Nos. 2023 and 2023-A Further Compliance Filing to be effective 12/31/9998.

Filed Date: 3/7/25.

Accession Number: 20250307-5197.

Comment Date: 5 p.m. ET 3/28/25.

Docket Numbers: ER24-2566-005.

Applicants: Northern States Power Company, a Minnesota corporation.

Description: Tariff Amendment: 2025-03-07 CapX Brookings CMA-757—Errata to be effective 6/21/2024.

Filed Date: 3/7/25.

Accession Number: 20250307-5186.

Comment Date: 5 p.m. ET 3/28/25.

Docket Numbers: ER25-1527-000.

Applicants: Knox County Wind Farm LLC.

Description: § 205(d) Rate Filing: Application for Market-Based Rate Authorization—Knox County Wind Farm LLC to be effective 5/6/2025.

Filed Date: 3/6/25.

Accession Number: 20250306-5229.

Comment Date: 5 p.m. ET 3/27/25.

Docket Numbers: ER25-1528-000.

Applicants: Avangrid Power, LLC.

Description: § 205(d) Rate Filing: Notice of Succession to be effective 3/7/2025.

Filed Date: 3/6/25.

Accession Number: 20250306-5241.

Comment Date: 5 p.m. ET 3/27/25.

Docket Numbers: ER25-1529-000.

Applicants: Avangrid Power, LLC.

Description: § 205(d) Rate Filing: Notice of Succession to be effective 3/7/2025.

Filed Date: 3/6/25.

Accession Number: 20250306-5249.

Comment Date: 5 p.m. ET 3/27/25.

Docket Numbers: ER25-1530-000.

Applicants: PJM Interconnection, L.L.C.

Description: § 205(d) Rate Filing: Amendment to ISA, Service Agreement No. 6024; AB2-135 to be effective 5/6/2025.

Filed Date: 3/6/25.

Accession Number: 20250306-5258.

Comment Date: 5 p.m. ET 3/27/25.

Docket Numbers: ER25-1531-000.

Applicants: PJM Interconnection, L.L.C.

Description: § 205(d) Rate Filing: Amendment to ISA, Service Agreement No. 7117; Queue No. AF2-122 to be effective 5/7/2025.

Filed Date: 3/7/25.

Accession Number: 20250307-5057.

Comment Date: 5 p.m. ET 3/28/25.

Docket Numbers: ER25-1532-000.

Applicants: PJM Interconnection, L.L.C.

Description: § 205(d) Rate Filing: Original GIA Service Agreement No. 7576; Project Identifier No. AG1-047 to be effective 2/5/2025.

Filed Date: 3/7/25.

Accession Number: 20250307-5058.

Comment Date: 5 p.m. ET 3/28/25.

Docket Numbers: ER25-1533-000.

Applicants: PJM Interconnection, L.L.C.

Description: § 205(d) Rate Filing: Original CSA Service Agreement No. 7584; Project Identifier No. AG1-047 to be effective 2/11/2025.

Filed Date: 3/7/25.

Accession Number: 20250307-5068.

Comment Date: 5 p.m. ET 3/28/25.

Docket Numbers: ER25-1534-000.

Applicants: New York Independent System Operator, Inc., Power Authority of the State of New York.

Description: § 205(d) Rate Filing: New York Independent System Operator, Inc. submits tariff filing per 35.13(a)(2)(iii: NYISO-NYPA 205: Amended LGIA Cider Solar SA2773 (CEII) to be effective 2/21/2025.

Filed Date: 3/7/25.

Accession Number: 20250307-5071.

Comment Date: 5 p.m. ET 3/28/25.

Docket Numbers: ER25-1535-000.

Applicants: NorthWestern Energy Public Service Corporation.

Description: § 205(d) Rate Filing: RS37 3rd Rev—Emergency Tie Agreement with East River Elec to be effective 5/7/2025.

Filed Date: 3/7/25.

Accession Number: 20250307-5129.

Comment Date: 5 p.m. ET 3/28/25.

Docket Numbers: ER25-1536-000.

Applicants: PJM Interconnection, L.L.C.

Description: § 205(d) Rate Filing: Original GIA, Service Agreement No. 7566; AG1-311 to be effective 2/5/2025.

Filed Date: 3/7/25.

Accession Number: 20250307-5167.

Comment Date: 5 p.m. ET 3/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 7, 2025.
Carlos D. Clay,
Deputy Secretary.

[FR Doc. 2025-03984 Filed 3-12-25; 8:45 am]

BILLING CODE 6717-01-P